DEPARTMENT OF COMMERCE

National Oceanic and Atmospheric Administration

50 CFR Part 622

[I.D. 102403A]

Fisheries of the Caribbean, Gulf of Mexico, and South Atlantic; Reef Fish Fishery of the Gulf of Mexico; Vermilion Snapper; Notification of an Overfished Fishery

AGENCY: National Marine Fisheries Service (NMFS), National Oceanic and Atmospheric Administration (NOAA), Commerce.

ACTION: Determination of an overfished fishery.

SUMMARY: NMFS has determined that the Gulf of Mexico vermilion snapper fishery is overfished and has notified the Gulf of Mexico Fishery Management Council (Council) of related responsibilities under the Magnuson-Stevens Fishery Conservation and Management Act (Magnuson-Stevens Act).

FOR FURTHER INFORMATION CONTACT: Phil Steele, telephone 727-570-5305, fax 727-570-5583, e-mail Phil.Steele@noaa.gov.

SUPPLEMENTARY INFORMATION: The Gulf of Mexico reef fish fishery is managed under the Fishery Management Plan for the Reef Fish Resources of the Gulf of Mexico (FMP). The FMP was prepared by the Council and approved and implemented by NMFS under the authority of the Magnuson-Stevens Act. The FMP is implemented by regulations at 50 CFR part 622.

Determination of Overfished Fishery

NMFS' determination of the status of a stock relative to overfishing and an overfished condition is based on both the rate of removal of fish from the stock through fishing (the exploitation rate) and the current stock size. When the exploitation rate jeopardizes the capacity of a stock to produce its maximum sustainable yield (MSY) on a continuing basis, overfishing is occurring. The exploitation rate is usually expressed in terms of an instantaneous fishing mortality rate (F).

Another important factor for classifying the status of a resource is the current stock level. If a stock's biomass falls below its minimum stock size threshold, the capacity of the stock to produce MSY on a continuing basis is jeopardized, and the stock is considered to be in an overfished condition.

Estimated total landings of Gulf vermilion snapper peaked in the early 1990s and have declined through the late 1990s for both the commercial and recreational sector. Commercial catches dropped 20 percent over this time period while recreational catches declined over 30 percent. Catch per unit effort, an indication of abundance, declined in three different fishing sectors, including the commercial handline fishery, and the western and eastern Gulf paid passenger recreational fishery (headboats). The decline in catch per unit effort was most extreme in the eastern Gulf headboat fishery, with this index dropping over 75 percent in value. Reductions were also seen from 1993 to 1999 in two fishery-independent surveys.

The 2001 vermilion snapper stock assessment evaluated the current condition of the Gulf vermilion snapper stock using two different scientific models: a surplus-production model and a virtual population analysis (VPA). The VPA results varied greatly depending on the inputs to the model. Moreover, vermilion snapper are known to vary widely in their size at age. As a result, the Reef Fish Stock Assessment Panel (RFSAP) concluded that these analyses were highly uncertain and excluded them from consideration of stock status.

The surplus-production models gave consistent results across a wide range of model inputs, with only one scenario (eliminating data from the most recent 3 years) showing significant differences. All other model formulations indicated that vermilion snapper was overfished and experiencing overfishing. The preferred model formulation indicated that this stock experienced a fishing mortality rate in 1999 nearly twice the rate associated with MSY (i.e., F1999/FMSY = 1.99). The estimated current biomass of Gulf vermilion snapper was 3.4 million lb (1.5 million kg), which only amounts to 32 percent of the biomass expected at MSY and was just over half the estimated biomass in 1986.

The RFSAP supported the assessment's results indicating that Gulf vermilion snapper are overfished and experiencing overfishing. The Gulf of Mexico's Scientific and Statistical Committee concluded that the RFSAP report represented the best available scientific advice to the Council for establishing catch limits for vermilion snapper.

Section 304(e) of the Magnuson-Stevens Act requires that within 1 year of being notified of the identification of a stock as being overfished, the affected Regional Fishery Management Council must develop measures to end overfishing and rebuild the stock. On October 31, 2003, the Administrator, Southeast Region, NMFS, notified the Council of the overfished status of the Gulf of Mexico vermilion snapper and requested that the Council take appropriate action. The letter to the Council reads as follows:

October 31, 2003

Ms. Bobbi Walker, Chairperson

Gulf of Mexico Fishery

Management Council

3018 U.S. Highway 301, Suite 1000

Tampa, Florida 33619

Dear Ms. Walker:

This is to inform the Gulf of Mexico Fishery Management Council (Council) that, based upon the best available scientific information, the National Marine Fisheries Service (NOAA Fisheries) has determined that the Gulf of Mexico vermilion snapper stock is overfished and undergoing overfishing. This determination is based on the July 2001 Status of the Vermilion Snapper Fishery in the Gulf of Mexico Report (Assessment 5.0), the October 2001 Report of the Reef Fish Stock Assessment Panel, and the Summary of the Standing and Special Reef Fish SSC Meeting from the January 2002 Council meeting. The analyses concluded that vermilion snapper biomass was 32% of the biomass associated with maximum sustainable yields (BMSY) in 2000. This estimate fell well below the minimum stock size threshold of 75% of BMSY. The analyses also concluded that the stock experienced a fishing mortality rate in 1999 of nearly twice the rate associated with MSY (FMSY). Several assessment scenarios were examined, all but one of which gave similar results. These analyses indicate that the vermilion snapper stock is overfished and undergoing overfishing. Dr. Nancy Thompson, Director of the Southeast Fisheries Science Center, will attend the November Council meeting to respond to questions the Council may have regarding the assessment.

The Magnuson-Stevens Fishery Conservation and Management Act requires that within one year of the determination that the stock is overfished the Council must propose a rebuilding plan; however, as pointed out in an April 12, 2002, letter from Dr. Joseph Powers, the Council must take action as soon as possible to end overfishing. The 2001 stock assessment provided guidance on measures necessary to end overfishing and rebuild the stock within 10 years. It estimates that 40 to 50 percent catch reductions are necessary to end overfishing and to rebuild vermilion snapper. Ongoing efforts have already identified options to achieve these reductions.

We are now required to develop a formal rebuilding plan. I anticipate that a single amendment to the Reef Fish Fishery Management Plan can serve as a rebuilding plan and also enact measures to end overfishing. This administrative strategy could potentially delay efforts to end overfishing of vermilion snapper. Consequently, I am willing to issue an interim rule sooner, if necessary, to end overfishing once suitable regulations have been identified.

I look forward to working with the Council in developing a plan for rebuilding the vermilion snapper stock.

Sincerely yours,

Roy E. Crabtree, Ph.D.

Regional Administrator

Dated: October 30, 2003.
Bruce C. Morehead,
Acting Director, Office of Sustainable Fisheries, National Marine Fisheries Service.

[FR Doc. 03-27844 Filed 10-31-03; 2:36 pm]

BILLING CODE 3510-22-S